DEPARTMENT OF TRANSPORTATION

Federal Aviation Administration

14 CFR Part 39

[Docket No. FAA-2005-22103; Directorate Identifier 2005-CE-42-AD]

RIN 2120-AA64

Airworthiness Directives; Raytheon Aircraft Company Model B300 Airplanes

AGENCY: Federal Aviation Administration (FAA), DOT.

ACTION: Notice of proposed rulemaking (NPRM).

SUMMARY: The FAA proposes to adopt a new airworthiness directive (AD) for certain Raytheon Aircraft Company (Raytheon) Model B300 airplanes. This proposed AD would require you to modify the cabin passenger seats by installing a modification kit on each passenger seat, removing the existing technical standard order (TSO) label, and re-identifying each modified passenger seat assembly with a new part number. This proposed AD results from the seats not meeting the ultimate load requirements of 14 CFR part 23 during structural testing of the seat with design changes. We are issuing this proposed AD to prevent the passenger seats from failing during emergency landing conditions when high inertial loadings occur. Passenger seat failure may result in occupant injury.

DATES: We must receive comments on this proposed AD by July 14, 2006.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

For service information identified in this proposed AD, contact Raytheon Aircraft Company, P.O. Box 85, Wichita, Kansas 67201; telephone: (800) 625-7043.

FOR FURTHER INFORMATION CONTACT: Steven E. Potter, Aerospace Engineer, Wichita Aircraft Certification Office, Airframe and Services Branch, ACE-118W, 1801 Airport Road, Wichita, Kansas 67209; telephone: (316) 946-4124; facsimile: (316) 946-4107.

SUPPLEMENTARY INFORMATION:

Comments Invited

We invite you to send any written relevant data, views, or arguments regarding this proposal. Send your comments to an address listed under the ADDRESSES section. Include the docket number, “FAA-2005-22103; Directorate Identifier 2005-CE-42-AD” at the beginning of your comments.

We specifically invite comments on the overall regulatory, economic, environmental, and energy aspects of this proposed AD. We will consider all comments received by the closing date and may amend this proposed AD in light of those comments.

We will post all comments we receive, without change, to http://dms.dot.gov, including any personal information you provide. We will also post a report summarizing each substantive verbal contact we receive concerning this proposed AD.

Discussion

While testing for a minor design change of certain cabin seats that are installed on Raytheon Model B300 airplanes through a TSO, ERDA, Inc. (the seat manufacturer at that time) found the cabin seats failed before reaching the design load requirements. These passenger seats did not meet the design load requirements of 14 CFR part 23 and the associated TSO. ERDA, Inc. investigated the original testing methods used for the passenger seats and found that the applied test loads used were inaccurate because of faulty equipment. When tested using the correct applied loads, ERDA, Inc. found structural deficiencies. The current manufacturer and TSO authorization holder is DeCrane Aircraft Seating Company, Inc. The affected passenger seats are only installed on Raytheon Model B300 airplanes.

If the passenger seats do not meet the design load requirements of 14 CFR part 23 and the associated TSO, the passenger seats could fail during emergency landing conditions when high inertial loadings occur. Passenger seat failure could result in occupant injury.

Relevant Service Information

Raytheon has issued Service Bulletin SB 25-3640, Rev. 1, Issued: May 2005, Revised: January 2006.

The service bulletin includes procedures for:

• Installing a modification kit on each passenger seat, part number (P/N) 130-5108-0001 or P/N 130-5108-0002;

• Removing the existing TSO label; and

• Re-identifying each modified passenger seat assembly with the new P/N.

FAA's Determination and Requirements of This Proposed AD

We are proposing this AD because we evaluated all information and determined that an unsafe condition is likely to exist or develop on other Raytheon Model B300 airplanes of the same type design.

This proposed AD would require you to incorporate the actions in the previously-referenced service bulletin.

Costs of Compliance

We estimate that this proposed AD could affect 292 airplanes in the U.S. registry that have the affected cabin seats installed for a total of 1,372 cabin passenger seats.

We estimate the following costs to do this proposed modification:

Labor cost | Parts cost | Total cost per airplane | Total cost on U.S. operators
3 workhours (per seat) × $80 per hour = $240 | $1,500 per seat | $1,740 per seat | $2,387,280. The number of passenger seats per airplane may vary. We estimate a total of 1,372 seats in the entire fleet.

Raytheon will provide warranty credit as specified in Service Bulletin SB 253640, Rev. 1, Issued: May 2005, Revised: January 2006.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the national Government and the States, or on the distribution of power and responsibilities among the various levels of government.

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-22103; Directorate Identifier 2005-CE-42-AD” in your request.

Examining the Docket

You may examine the AD docket that contains the proposal, any comments received, and any final disposition on the Internet at http://dms.dot.gov; or in person at the DMS Docket Offices between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Raytheon Aircraft Company: Docket No. FAA-2005-22103; Directorate Identifier 2005-CE-42-AD.

Comments Due Date

(a) We must receive comments on this proposed airworthiness directive (AD) by July 14, 2006.

Affected ADs

(b) None.

Applicability

(c) This AD affects Model B300 airplanes, serial numbers FL-1 through FL-289, that are certificated in any category.

Unsafe Condition

(d) This AD is the result of the cabin passenger seats not meeting the design load requirements of 14 CFR part 23 and associated technical standard order (TSO) during structural load testing for design changes. The actions specified in this AD are intended to prevent the passenger seats from failing during emergency landing conditions when high inertial loadings occur. Passenger seat failure could result in occupant injury.

Compliance

(e) To address this problem, you must do the following:

Actions | Compliance | Procedures
(1) Install a modification kit for each cabin passenger seat as follows: (i) Install part number (P/N) 130-5108-0001 for left forward facing seats or right aft facing seats; and | Within 24 calendar months or 600 hours time-in-service, whichever occurs first after the effective date of this AD, unless previously done. | Follow Raytheon Aircraft Company Service Bulletin SB 25-3640, Rev. 1; Issued: May 2005, Revised: January 2006.
(ii) Install P/N 130-5108-0002 for right forward facing seats or left aft facing seats.
(2) Remove the TSO label on each cabin seat and re-identify each modified cabin seat assembly with the new P/N as follows: (i) Re-identify old P/N 130-530025-3, left forward facing or right aft facing seat assembly, to the new P/N 130-530999-0001. | Prior to further flight after doing the modification required in paragraph (e)(1) of this AD. | Follow Raytheon Aircraft Company Service Bulletin SB 25-3640, Rev. 1; Issued: May 2005, Revised: January 2006.
(ii) Re-identify old P/N 130-530025-4, right forward facing or left aft facing seat assembly, to the new P/N 130-530999-0002.

Alternative Methods of Compliance (AMOCs)

(f) The Manager, Wichita Aircraft Certification Office (ACO), FAA, ATTN: Steven E. Potter, Aerospace Engineer, Wichita ACO, Airframe and Services Branch, ACE-118W, 1801 Airport Road, Wichita, Kansas 67209; telephone: (316) 946-4124; facsimile: (316) 946-4107, has the authority to approve alternative methods of compliance for this AD, if requested using the procedures found in 14 CFR 39.19.

Related Information

(g) To get copies of the documents referenced in this AD, contact Raytheon Aircraft Company, P.O. Box 85, Wichita, Kansas 67201; telephone: (800) 625-7043. To view the AD docket, go to the Docket Management Facility; U.S. Department of Transportation, 400 Seventh Street, SW., Nassif Building, Room PL-401, Washington, DC, or on the Internet at http://dms.dot.gov. The docket number is Docket No. FAA-2005-22103; Directorate Identifier 2005-CE-42-AD.

Issued in Kansas City, Missouri, on May 15, 2006.
Sandra J. Campbell,
Acting Manager, Small Airplane Directorate, Aircraft Certification Service.

[FR Doc. E6-7636 Filed 5-18-06; 8:45 am]

BILLING CODE 4910-13-P